DEPARTMENT OF THE INTERIOR

Fish and Wildlife Service

[Docket No. FWS-R8-ES-2019-0116; FXES11140900000-190-FF08E00000]

Endangered and Threatened Species; Incidental Take Permit Application and Habitat Conservation Plan for the Proposed Rooney Ranch Wind Repowering Project, Alameda County, California; Availability of Draft Environmental Assessment; Correction

AGENCY: Fish and Wildlife Service, Interior.

ACTION: Notice of receipt of permit application; request for comments; correction.

SUMMARY: We, the U.S. Fish and Wildlife Service, published a document in the May 28, 2020, Federal Register that announced the availability of a proposed habitat conservation plan and a draft environmental impact statement for public comment. The public comment period end date in the DATES section of the notice was incorrect. The correct date is June 29, 2020.

FOR FURTHER INFORMATION CONTACT: Claudia Funari, 916-414-6600. If you use a telecommunications device for the deaf, please call the Federal Information Relay Service at 800-877-8339.

SUPPLEMENTARY INFORMATION:

Correction

In notice document 2019-26478, appearing at 85 FR 32044 in the issue of Wednesday, May 28, 2020, make the following correction: On page 32044, the DATES caption should read as follows:

DATES: To ensure consideration, please send your written comments by June 29, 2020.

Sara Prigan,
Federal Register Liaison.

[FR Doc. 2020-12088 Filed 6-3-20; 8:45 am]

BILLING CODE 4333-15-P